DEPARTMENT OF ENERGY

Federal Energy Regulatory Commission

Combined Notice of Filings #1

Take notice that the Commission received the following electric corporate filings:

Docket Numbers: EC23-113-000.

Applicants: GPS Cabazon Wind, LLC, Salka Cabazon HoldCo LLC.

Description: Joint Application for Authorization Under section 203 of the Federal Power Act of GPS Cabazon Wind, LLC, et al.

Filed Date: 7/24/23.

Accession Number: 20230724-5228.

Comment Date: 5 p.m. ET 8/14/23.

Take notice that the Commission received the following exempt wholesale generator filings:

Docket Numbers: EG23-239-000.

Applicants: 7V Solar Ranch, LLC.

Description: 7V Solar Ranch, LLC submits Notice of Self-Certification of Exempt Wholesale Generator Status.

Filed Date: 7/21/23.

Accession Number: 20230721-5177.

Comment Date: 5 p.m. ET 8/11/23.

Docket Numbers: EG23-240-000.

Applicants: Crystal Hill Solar, LLC.

Description: Crystal Hill Solar, LLC submits Notice of Self-Certification of Exempt Wholesale Generator Status.

Filed Date: 7/25/23.

Accession Number: 20230725-5108.

Comment Date: 5 p.m. ET 8/15/23.

Take notice that the Commission received the following electric rate filings:

Docket Numbers: ER23-22-002.

Applicants: Puget Sound Energy, Inc.

Description: Compliance filing: PSE Compliance Filng to be effective 9/8/2023.

Filed Date: 7/25/23.

Accession Number: 20230725-5112.

Comment Date: 5 p.m. ET 8/15/23.

Docket Numbers: ER23-841-002.

Applicants: Southwest Power Pool, Inc.

Description: Compliance filing: Compliance Filing Revising Att V Section 8 in Response to June 27 Order to be effective 4/1/2023.

Filed Date: 7/25/23.

Accession Number: 20230725-5025.

Comment Date: 5 p.m. ET 8/15/23.

Docket Numbers: ER23-2334-001.

Applicants: Southwest Power Pool, Inc.

Description: Tariff Amendment: 2198R34 Kansas Power Pool NITSA NOA to be effective 9/1/2023.

Filed Date: 7/25/23.

Accession Number: 20230725-5084.

Comment Date: 5 p.m. ET 8/15/23.

Docket Numbers: ER23-2477-000.

Applicants: ISO New England Inc., Central Maine Power Company.

Description: § 205(d) Rate Filing: ISO New England Inc. submits tariff filing per 35.13(a)(2)(iii: CMP; Request for Approval of Updated Depreciation Rates to be effective 7/1/2023.

Filed Date: 7/25/23.

Accession Number: 20230725-5067.

Comment Date: 5 p.m. ET 8/15/23.

Docket Numbers: ER23-2478-000.

Applicants: Midcontinent Independent System Operator, Inc.

Description: § 205(d) Rate Filing: 2023-07-25 Attachment FF Removal of MVP Limited Review to be effective 9/24/2023.

Filed Date: 7/25/23.

Accession Number: 20230725-5071.

Comment Date: 5 p.m. ET 8/15/23.

Docket Numbers: ER23-2479-000.

Applicants: American Electric Power Service Corporation, PJM Interconnection, L.L.C.

Description: § 205(d) Rate Filing: American Electric Power Service Corporation submits tariff filing per 35.13(a)(2)(iii: AEP submits update to Attachment 1 of ILDSA, SA No. 1336 (07/01/23) to be effective 7/1/2023.

Filed Date: 7/25/23.

Accession Number: 20230725-5088.

Comment Date: 5 p.m. ET 8/15/23.

Docket Numbers: ER23-2480-000.

Applicants: Southern California Edison Company.

Description: § 205(d) Rate Filing: First Amendment GIA, Portal Ridge Solar A-Cancel eTariff Record (WDT1517/SA1048) to be effective 7/26/2023.

Filed Date: 7/25/23.

Accession Number: 20230725-5095.

Comment Date: 5 p.m. ET 8/15/23.

Docket Numbers: ER23-2481-000.

Applicants: Crystal Hill Solar, LLC.

Description: Baseline eTariff Filing: Market-Based Rate Application to be effective 9/24/2023.

Filed Date: 7/25/23.

Accession Number: 20230725-5111.

Comment Date: 5 p.m. ET 8/15/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 25, 2023.
Kimberly D. Bose,
Secretary.

[FR Doc. 2023-16236 Filed 7-31-23; 8:45 am]

BILLING CODE 6717-01-P